POSTAL SERVICE

International Product Change—Global Plus 3 Contracts

AGENCY: Postal Service™.

ACTION: Notice.

SUMMARY: The Postal Service gives notice of filing a request with the Postal Regulatory Commission to add the Global Plus 3 product to the Competitive Products List.

DATES: Effective date: June 16, 2016.

FOR FURTHER INFORMATION CONTACT: Christopher C. Meyerson, (202) 268-7820.

SUPPLEMENTARY INFORMATION: The United States Postal Service® hereby gives notice that, pursuant to 39 U.S.C. 3642, on June 10, 2016, it filed with the Postal Regulatory Commission a Request of the United States Postal Service to add Global Plus 3 to the Competitive Product List. Documents are available at www.prc.gov, Docket Nos. MC2016-152 and CP2016-196.

Stanley F. Mires,
Attorney, Federal Compliance.

[FR Doc. 2016-14213 Filed 6-15-16; 8:45 am]

BILLING CODE 7710-12-P